STATE DEPARTMENT

[Public Notice: 7604]

Foreign Affairs Policy Board Meeting Notice; Closed Meeting

In accordance with section 10(a)(2) of the Federal Advisory Committee Act, 5 U.S.C. App. 10(a)(2), the Department of State announces a meeting of the Foreign Affairs Policy Board to take place on March 19, 2012, at the Department of State, Washington, DC.

The Foreign Affairs Policy Board reviews and assesses: (1) Global threats and opportunities; (2) trends that implicate core national security interests; (3) tools and capacities of the civilian foreign affairs agencies; and (4) priorities and strategic frameworks for U.S. foreign policy. Pursuant to section 10(d) of the Federal Advisory Committee Act, 5 U.S.C. App. 10(d), and 5 U.S.C. 552b(c)(1), it has been determined that this meeting will be closed to the public as the Board will be reviewing and discussing matters properly classified in accordance with Executive Order 13526.

For more information, contact Samantha Raddatz at (202) 647-2372. This announcement might appear in the Federal Register less than 15 days prior to the advisory committee meeting. The Department of State finds: (1) That there is an exceptional circumstance to hold this meeting with less than a 15-day notice, in that a senior government official must address this committee meeting, and (2) further postponing this meeting to accommodate this official's schedule would result in an unacceptable delay in the work of this advisory committee.

Dated: February 29, 2012.
Dan Kurtz-Phelan,
Designated Federal Officer.

[FR Doc. 2012-5407 Filed 3-5-12; 8:45 am]

BILLING CODE 4710-10-P